DEPARTMENT OF EDUCATION

Federal Perkins Loan, Federal Work-Study, and Federal Supplemental Educational Opportunity Grant Programs; 2022-23 Award Year Deadline Dates

AGENCY: Federal Student Aid, Department of Education.

ACTION: Notice.

SUMMARY: The Secretary announces the 2022-23 award year deadline dates for the submission of requests and documents from postsecondary institutions for the Federal Perkins Loan (Perkins Loan) Program, Federal Work-Study (FWS), and Federal Supplemental Educational Opportunity Grant (FSEOG) programs (collectively, the “Campus-Based programs”), Assistance Listing Numbers 84.038, 84.033, and 84.007.

DATES: The deadline dates for each program are specified in the chart in the DEADLINE DATES section of this notice.

FOR FURTHER INFORMATION CONTACT: Shannon Mahan, Division Chief, Grants & Campus-Based Partner Division, U.S. Department of Education, Federal Student Aid, 830 First Street NE, Union Center Plaza, room 64C4, Washington, DC 20202-5453. Telephone: (202) 377-3019. Email: shannon.mahan@ed.gov.

If you use a telecommunications device for the deaf (TDD) or a text telephone (TTY), call the Federal Relay Service, toll free, at 1-800-877-8339.

SUPPLEMENTARY INFORMATION: The authority to award new Federal Perkins Loans to students has expired. Institutions that continue to service their Perkins Loans (or contract with a third-party servicer for servicing) are required to report all Perkins Loan activity on the institution's Fiscal Operations Report and Application to Participate (FISAP).

The FWS program encourages the part-time employment of needy undergraduate and graduate students to help pay for their education and to involve the students in community service activities.

The FSEOG program encourages institutions to provide grants to exceptionally needy undergraduate students to help pay for their education.

The Perkins Loan, FWS, and FSEOG programs are authorized by parts E and C, and part A, subpart 3, respectively, of title IV of the Higher Education Act of 1965, as amended.

Throughout the year, in its “Electronic Announcements,” the Department will continue to provide additional information for the individual deadline dates listed in the table under the DEADLINE DATES section of this notice. You will also find the information on the Department's Knowledge Center website at: https://fsapartners.ed.gov/knowledge-center.

Deadline Dates: The following table provides the 2022-23 award year deadline dates for the submission of applications, reports, waiver requests, and other documents for the Campus-Based programs. Institutions must meet the established deadline dates to ensure consideration for funding or waiver, as appropriate.

2022-23 Award Year Deadline Dates
What does an institution submit? | How is it submitted? | What is the deadline for submission?
1. The Campus-Based Reallocation Form designated for the return of 2021-22 funds and the request for supplemental FWS funds for the 2022-23 award year | The form must be submitted electronically through the Common Origination and Disbursement website at https://cod.ed.gov | Monday, August 15, 2022.
2. The 2023-24 FISAP (reporting 2021-22 expenditure data and requesting funds for 2023-24) | The FISAP must be submitted electronically through the Common Origination and Disbursement website at https://cod.ed.gov The FISAP signature page must be signed by the institution's chief executive officer with an original signature and mailed to: FISAP Administrator, U.S. Department of Education, P.O. Box 9003, Niagara Falls, NY 14302 | Friday, September 30, 2022.
| For overnight delivery, mail to: FISAP Administrator, 2429 Military Road, Suite 200, Niagara Falls, NY 14304
3. The Work Colleges Program Report of 2021-22 award year expenditures | The report must be submitted electronically through the Common Origination and Disbursement website at https://cod.ed.gov | Friday, September 30, 2022.
| The signature page must be signed by the institution's chief executive officer with an original signature and mailed to: FISAP Administrator, U.S. Department of Education, P.O. Box 9003, Niagara Falls, NY 14302
| For overnight delivery, mail to: FISAP Administrator, 2429 Military Road, Suite 200, Niagara Falls, NY 14304
4. The 2021-22 Financial Assistance for Students with Intellectual Disabilities (Comprehensive Transition Program) Expenditure Report | The report must be submitted electronically through the Common Origination and Disbursement website at https://cod.ed.gov The signature page must be signed by the institution's chief executive officer with an original signature and mailed to: FISAP Administrator, U.S. Department of Education, P.O. Box 9003, Niagara Falls, NY 14302 | Friday, September 30, 2022.
| For overnight delivery, mail to: FISAP Administrator 2429 Military Road, Suite 200, Niagara Falls, NY 14304
5. NEW The Institutional Application and Agreement for Participation in the Work Colleges Program for the 2023-24 award year—NEW applicants only | The application and agreement must be submitted electronically through the Common Origination and Disbursement website at https://cod.ed.gov The signature page must be signed by the institution's chief executive officer with an original signature and sent with all application documents to the U.S. Department of Education using one of the following methods:
| Hand deliver to: U.S. Department of Education, Federal Student Aid, Grants & Campus-Based Division, 830 First Street NE, Room 62B1, ATTN: Work Colleges Coordinator, Washington, DC 20002, or
| Mail to: The address listed above for hand delivery. However, please use ZIP Code 20202-5453
6. 2023-24 FISAP Edit Corrections | The corrections must be submitted electronically through the Common Origination and Disbursement website at https://cod.ed.gov | Thursday, December 15, 2022.
7. The 2023-24 FISAP Perkins Cash on Hand Update as of October 31, 2022 | The update must be submitted electronically through the Common Origination and Disbursement website at https://cod.ed.gov | Thursday, December 15, 2022.
8. Request for a waiver of the 2023-24 award year penalty for the underuse of 2021-22 award year funds | The request for a waiver of the penalty and the justification must be submitted electronically through the Common Origination and Disbursement website at https://cod.ed.gov | Monday, February 6, 2023.
9. The Institutional Application and Agreement for Participation in the Work Colleges Program for the 2023-24 award year—RETURNING applicants only | The application and agreement must be submitted electronically through the Common Origination and Disbursement website at https://cod.ed.gov The signature page must be signed by the institution's chief executive officer with an original signature and mailed to: FISAP Administrator, U.S. Department of Education, P.O. Box 9003, Niagara Falls, NY 14302 | Monday, March 6, 2023.
| For overnight delivery, mail to: FISAP Administrator, 2429 Military Road, Suite 200, Niagara Falls, NY 14304
10. Request for a waiver of the FWS Community Service Expenditure Requirement for the 2023-24 award year | The request for a waiver must be submitted electronically through the Common Origination and Disbursement website at https://cod.ed.gov | Monday, April 24, 2023.
Notes:
The deadline for electronic submissions is 11:59:00 p.m. (Eastern Time) on the applicable deadline date. Transmissions must be completed and accepted by 11:59:00 p.m. to meet the deadline.
Paper documents that are sent through the U.S. Postal Service must be postmarked or you must have a mail receipt stamped by the applicable deadline date.
Paper documents that are delivered by a commercial courier must be received no later than 4:30:00 p.m. (Eastern Time) on the applicable deadline date.
The Secretary may consider on a case-by-case basis the effect that a major disaster, as defined in section 102(2) of the Robert T. Stafford Disaster Relief and Emergency Assistance Act (42 U.S.C. 5122(2)), or another unusual circumstance has on an institution in meeting the deadlines.

Proof of Mailing or Hand Delivery of Paper Documents

If you submit paper documents when permitted by mail or by hand delivery (or from a commercial courier), we accept as proof one of the following:

(1) A legible mail receipt with the date of mailing stamped by the U.S. Postal Service.

(2) A legibly dated U.S. Postal Service postmark.

(3) A dated shipping label, invoice, or receipt from a commercial courier.

(4) Any other proof of mailing or delivery acceptable to the Secretary.

If you mail your paper documents through the U.S. Postal Service, we do not accept either of the following as proof of mailing:

(1) A private metered postmark.

(2) A mail receipt that is not dated by the U.S. Postal Service.

Note: The U.S. Postal Service does not uniformly provide a dated postmark. Before relying on this method, you should check with your local post office.

All institutions are encouraged to use certified or at least first-class mail.

The Department accepts hand deliveries from you or a commercial courier between 8:00:00 a.m. and 4:30:00 p.m., Eastern Time, Monday through Friday except Federal holidays.

Sources for Detailed Information on These Requests

A more detailed discussion of each request for funds or waiver is provided in specific “Electronic Announcements,” which are posted on the Department's Knowledge Center website (https://fsapartners.ed.gov/knowledge-center) at least 30 days before the established deadline date for the specific request. Information on these items also is found in the Federal Student Aid Handbook, which is posted on the Department's Knowledge Center website.

Applicable Regulations: The following regulations apply to these programs:

(1) Student Assistance General Provisions, 34 CFR part 668.

(2) General Provisions for the Federal Perkins Loan Program, Federal Work-Study Program, and Federal Supplemental Educational Opportunity Grant Program, 34 CFR part 673.

(3) Federal Perkins Loan Program, 34 CFR part 674.

(4) Federal Work-Study Program, 34 CFR part 675.

(5) Federal Supplemental Educational Opportunity Grant Program, 34 CFR part 676.

(6) Institutional Eligibility Under the Higher Education Act of 1965, as amended, 34 CFR part 600.

(7) New restrictions on Lobbying, 34 CFR part 82.

(8) Governmentwide Requirements for Drug-Free Workplace (Financial Assistance), 34 CFR part 84.

(9) The Office of Management and Budget Guidelines to Agencies on Governmentwide Debarment and Suspension (Nonprocurement) in 2 CFR part 180, as adopted and amended as regulations in 2 CFR part 3485.

(10) Drug and Alcohol Abuse Prevention, 34 CFR part 86.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Program Authority: 20 U.S.C. 1070b et seq. and 1087aa et seq.; 42 U.S.C. 2751 et seq.

Richard Cordray,
Chief Operating Officer, Federal Student Aid .

[FR Doc. 2022-01897 Filed 1-28-22; 8:45 am]

BILLING CODE 4000-01-P